DEPARTMENT OF TRANSPORTATION

Federal Railroad Administration

[Docket Number FRA-2011-0033]

Petition for Waiver of Compliance

In accordance with Part 211 of Title 49 of the Code of Federal Regulations (CFR), this document provides the public notice that by a document dated April 22, 2011, Columbia Star Dinner Train (CSDT) of Columbia, MO, has petitioned the Federal Railroad Administration (FRA) for a waiver of compliance from certain provisions of the Federal railroad safety regulations contained at 49 CFR part 223. FRA assigned the petition Docket Number FRA-2011-0033.

CSDT has petitioned FRA for a permanent waiver of compliance for two locomotives, CESX 1950 and CESX 1951, from a portion of the railroad safety glazing standards, 49 CFR Section 223.11(b), which require FRA Type II material in all side-facing windows of the locomotive cab. CSDT states that both locomotives are currently equipped with fully compliant FRA Type I front-facing glazing per 49 CFR 223.11(a), and that the locomotives do not have rear-facing glazing. CSDT further states that these Electro-Motive Division F-7 locomotives, manufactured in 1950 (CESX 1950) and 1953 (CESX 1951), are of such design that impedes installation of thicker FRA Type II glass without significant modifications in the side and wing windows. As an alternative, the side-facing windows currently consist of safety type glass that is in good condition, clear and unscratched. Additionally, CSDT operates on approximately 18 miles of the Columbia Terminal Railroad (COLT) trackage, through generally rural countryside, at speeds between 10 and 15 mph despite the fact that the maximum authorized speed on this COLT trackage is 25 mph for freight. CSDT states that there has been no known incident of broken windows as a result of vandalism on the COLT and, therefore, no worker has been injured in the past. CSDT is requesting this relief because of the prohibitive cost involved in retrofitting the two locomotives with certified glazing. CSDT believes that the retained funds can best be used for other maintenance projects on their railroad.

A copy of the petition, as well as any written communications concerning the petition, is available for review online at http://www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 1, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on April 11, 2012.
Ron Hynes,
Acting Deputy Associate Administrator for Regulatory and Legislative Operations.

[FR Doc. 2012-9129 Filed 4-16-12; 8:45 am]

BILLING CODE 4910-06-P